DEPARTMENT OF TRANSPORTATION

Federal Aviation Administration

Public Notice for Waiver of Aeronautical Land-Use Assurance Rickenbacker International Airport Columbus, OH

AGENCY: Federal Aviation Administration, DOT.

ACTION: Notice of intent of waiver with respect to land.

SUMMARY: The Federal Aviation Administration (FAA) is considering a proposal to change a portion of the airport from aeronautical use to non-aeronautical use and to authorize the release of 188.653 acres of vacant airport property previously used for agricultural purposes for the proposed development of bulk warehouse/distribution facilities as a component of the Rickenbacker Global Logistics Park. The land was acquired by the Rickenbacker Port Authority through three Quitclaim Deeds from the United States of American dated March 30, 1984, September 22, 2004 (amended and restated August 26, 2005) and May 16, 2005. There are no impacts to the airport by allowing the airport to dispose of the property. Approval does not constitute a commitment by the FAA to financially assist in the disposal of the subject airport property nor a determination of eligibility for grant-in-aid funding from the FAA. The CRAA will receive $4,245,000 for the parcel.

In accordance with section 47107(h) of title 49, United States Code, this notice is required to be published in the Federal Register 30 days before modifying the land-use assurance that requires the property to be used for an aeronautical purpose.

DATES: Comments must be received on or before June 21, 2007.

ADDRESSES: Written comments on the Sponsor's request must be delivered or mailed to: Mary W. Jagiello, Program Manager, Detroit Airports District Office, 11677 South Wayne Road, Suite 107, Romulus, MI 48174.

FOR FURTHER INFORMATION CONTACT: Mary W. Jagiello, Program Manager, Federal Aviation Administration, Great Lakes Region, Detroit Airports District Office, DET ADO-608, 11677 South Wayne Road, Suite 107, Romulus, Michigan 48174. Telephone Number (734-229-2956)/Fax Number (734-229-2950). Documents reflecting this FAA action may be reviewed at this same location or at Rickenbacker International Airport, Columbus, Ohio.

SUPPLEMENTARY INFORMATION: Following is a legal description of the property situated in the State of Ohio, County of Franklin, Township of Hamilton, Ohio, being more particularly described as follows:

Beginning at the northwesterly corner of dedicated right-or-way of Port Road (formerly known as Curtis LeMay Avenue) as shown and delineated on the plat of “Dedication of Curtis LeMay Avenue and Alum Creek Drive” of record in Plat Book 76, page 46, being the northeasterly corner of said 0.371 ace tract;

Thence the following fourteen (14) courses and distances on, over and across the said 241.695 acre tract:

1. Along a curve to the left having a central angle of 22°14′57″, a radius of 1979.86 feet, an arc length of 768.82 feet, with a chord bearing of South 82°42′47″ West, and a chord length of 764.00 feet, to a point;

2. North 03°45′18″ East, a distance of 31.60 feet, to a point;

3. North 86°06′35″ West, a distance of 435.21 feet, to a point;

4. South 03°53′24″ West, a distance of 18.20 feet, to a point at the northwesterly corner of a 1.433 acre tract conveyed to South Central Power Company by deed of record in Official Record 34399 E11;

5. South 04°16′55″ West, a distance of 261.65 feet, to a point in a curve;

6. Along a curve to the left having a central angel of 11°24′43″, a radius of 1979.86 feet, with an arc length of 394.34 feet, with a chord bearing of South 51°17′48″ West, a chord length of 393.69 feet, to a point of tangency;

7. South 45°35′27″ West, a distance of 2212.72 feet, to a point of curvature;

8. Along a curve to the left having a central angle of 76°06′34″, a radius of 786.20 feet, with an arc length of 1044.36 feet, with a chord bearing of South 07°32′10″ West, and a chord a length of 969.25 feet, to a point of tangency;

9. South 30°31′07″ East, a distance of 864.22 feet, to a point of curvature; 10. Along a curve to the right having a central angle of 74°04′38″, a radius of 789.44 feet, an arc length of 1020.66 feet, with a chord bearing of South 96°31′12″ West, and a chord length of 951.04 feet, to a point of tangency;

11. South 43°33′31″ West, a distance of 1394.98 feet, to a point in the line of said 241.695 acre (Tract 2);

12. North 44°24′19″ West, a distance of 737.07 feet, along the said 241.695 acre (Tract 2) to a point;

13. North 45°35′41″ East, a distance of 1558.56 feet, continuing along said 241.695 acre (Tract 2), to a point;

14. North 86°58′21″ West, a distance of 1030.00 feet, on, over and across said 241.695 acre tract (Tract 2), to a point in the line between Section 11 and Section 12;

Thence North 03°36′41″ East, a distance of 1566.99 feet, along the line between Section 11 and Section 12 then a westerly line of said 241.695 acre tract (Tract 2) to a point at the common corners to Sections 11, 12, 1 and 2; Thence North 04°02′49″ East, a distance of 2714.89 feet, along line between Section 1 and Section 2 and continuing along a westerly line of said 241.695 acre tract (Tract 2) to a point at an angle point in the 225.289 acre tract (Tract 11);

Thence the following seven (7) courses and distances along a northerly line of said 225.289 (Tract 11);

1. South 86°46′46″ East, a distance of 2648.79 feet, to a point;

2. North 34°49′42″ East, a distance of 25.00 feet, to a point;

3. South 86°13′24″ East, a distance of 428.28 feet, to a point;

4. North 03°46′36″ East, a distance of 87.40 feet, to a point;

5. South 87°08′04″ East, a distance of 40.00 feet, to a point;

6. South 03°46′36″ West, a distance of 88.04 feet, to a point;

7. South 86°13′24″ East, a distance of 286.49 feet, to a point;

Thence North 03°48′27″ East, a distance of 39.68 feet, along the said 225.289 acre tract (Tract 11) then westerly line of said 0.371 acre tract (Tract 10) to a point;

Thence South 86°09′46″ East, a distance of 595.96 feet, along the northerly line of said 0.371 acre tract (Tract 10) to the Point of Beginning, containing 188.653 acres, more or less.

The bearings shown herein are based on the bearing of South 86°09′45″ East, for the northerly line of 0.371 acre (Tract 10) of record in Instrument Number 200301020000768, records of the Recorder's Office, Franklin County, Ohio.

Dated: Issued in Romulus, Michigan, on April 30, 2007.
Irene Porter,
Acting Manager, Detroit Airports District Office, FAA, Great Lakes Region.

[FR Doc. 07-2510 Filed 5-21-07; 8:45 am]

BILLING CODE 4910-13-M